FEDERAL COMMUNICATIONS COMMISSION

Notice of Public Information Collection(s) Being Submitted for Review to the Office of Management and Budget

June 14, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 22, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-XXXX.

Title: Rules and Regulations Implementing Minimum Customer Account Record Obligations on All Local and Interexchange Carrier (CARE), CG 02-386.

Form Number: N/A.

Type of Review: New collection.

Respondents: Business or other for-profit entities.

Number of Respondents: 1,778.

Estimated Time per Response: 0.75 to 6.70 hours.

Frequency of Response: Annual reporting and recordkeeping requirements.

Total Annual Burden: 44,576 hours.

Total Annual Cost: None.

Privacy Impact Assessment: No impact(s).

Needs and Uses: In the Report and Order and Further Notice of Proposed Rulemaking, In the Matter of Rules and Regulations Implementing Minimum Customer Account Record Exchange Obligations on All Local and Interexchange Carriers (2005 Report and Order), CG Docket No. 02-386, FCC 05-29, which was released on February 25, 2005, the Commission adopted rules governing the exchange of customer account information between local exchange carriers (LECs) and interexchange carriers (IXCs). The Commission concluded that mandatory, minimum standards are needed in light of record evidence demonstrating that information needed by carriers to execute customer requests and properly bill customers is not being consistently provided by all LECs and IXCs.

In the 2005 Further Notice of Proposed Rulemaking, as cited above, the Commission sought comment on whether to mandate the exchange of particular customer account information between two LECs when a customer switches local service providers. The Commission proposed to take this action in light of concerns reflected in the record regarding the need for more effective communications between LECs. Because the information exchanges proposed in the 2005 Further Notice of Proposed Rulemaking constitute proposed new information collections under the PRA, the Commission specifically invited the general public and OMB to comment on the proposed requirements.

The information collection requirements include: (1) Those that are contained in the 2005 Report and Order, noted above. Specifically, Commission is requesting OMB approval for specific rules under 47 CFR 64.4002 Notification obligations of LECs and 47 CFR 64.4003 Notification obligation of IXCs. (The Commission notes that it previously published these requirements as proposed in its 2004 Notice of Proposed Rulemaking, which was released on March 25, 2004.) The information collection requirements for the 2004 Notice of Proposed Rulemaking were published on April 19, 2004, 69 FR 20845; and (2) those that the Commission proposes in the 2005 Further Notice of Proposed Rulemaking, published on June 2, 2005, 70 FR 31406.

Federal Communications Commission.
Marlene H. Dortch,
Secretary.

[FR Doc. 05-12230 Filed 6-21-05; 8:45 am]

BILLING CODE 6712-01-P